DEPARTMENT OF DEFENSE

GENERAL SERVICES ADMINISTRATION

NATIONAL AERONAUTICS AND SPACE ADMINISTRATION

[OMB Control No. 9000-00XX; Docket No. 2011-0079; Sequence 14]

Submission for OMB Review; Preventing Personal Conflicts of Interest for Contractor Employees Performing Acquisition Functions

AGENCY: Department of Defense (DOD), General Services Administration (GSA), and National Aeronautics and Space Administration (NASA).

ACTION: Notice of request for public comments regarding a new OMB information clearance.

SUMMARY: Under the provisions of the Paperwork Reduction Act (44 U.S.C. chapter 35), the Regulatory Secretariat (MVCB) will be submitting to the Office of Management and Budget (OMB) a request to review and approve a new information collection requirement regarding Preventing Personal Conflicts of Interest for Contractor Employees Performing Acquisition Functions.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before June 13, 2011.

ADDRESSES: Submit comments identified by Information Collection 9000-00XX, Preventing Personal Conflicts of Interest for Contractor Employees Performing Acquisition Functions by any of the following methods:

• Regulations.gov: http://www.regulations.gov. Submit comments via the Federal eRulemaking portal by inputting “Information Collection 9000-00XX”, Preventing Personal Conflicts of Interest for Contractor Employees Performing Acquisition Functions under the heading “Enter Keyword or ID” and selecting “Search”. Select the link “Submit a Comment” that corresponds with “Information Collection 9000-00XX”, Preventing Personal Conflicts of Interest for Contractor Employees Performing Acquisition Functions. Follow the instructions provided at the “Submit a Comment” screen. Please include your name, company name (if any), and “Information Collection 9000-00XX”, Preventing Personal Conflicts of Interest for Contractor Employees Performing Acquisition Functions on your attached document.

• Fax: 202-501-4067.

• Mail: General Services Administration, Regulatory Secretariat (MVCB), 1275 First Street, NE., Washington, DC 20417. ATTN: Hada Flowers/IC 9000-00XX.

Instructions: Please submit comments only and cite Information Collection 9000-00XX, Preventing Personal Conflicts of Interest for Contractor Employees Performing Acquisition Functions, in all correspondence related to this collection. All comments received will be posted without change to http://www.regulations.gov, including any personal and/or business confidential information provided.

FOR FURTHER INFORMATION CONTACT: Mr. Anthony Robinson, Procurement Analyst, Acquisition Policy Division, at telephone (202) 501-2658 or via e-mail to Anthony.robinson@gsa.gov.

SUPPLEMENTARY INFORMATION:

A. Purpose

This is a request for a new information collection requirement concerning the Office of Management and Budget (OMB) Control Number 9000-00XX, FAR Case 2008-025, Preventing Personal Conflicts of Interest for Contractor Employees Performing Acquisition Functions, (Final Rule). Section 841(a) requires the Administrator for Federal Procurement Policy to develop and issue a standard policy to prevent personal conflicts of interest by contractor employees performing acquisition functions closely associated with inherently governmental functions, and an associated personal conflicts-of-interest clause or set of clauses.

Under the final rule, contractors are required to notify contracting officers whenever they become aware of any personal conflict-of-interest violations by a covered employee. The objective of the notification requirement is to emphasize the critical importance of integrity in contracting and reduce the occurrence of personal conflict-of-interest violations by contractor employees performing acquisition-related functions.

In addition, contractors have the opportunity, in exceptional circumstances, to request mitigation or waiver of the personal conflict-of-interest standards. The information is used by the Government to evaluate the requested mitigation/waiver.

B. Annual Reporting Burden

Respondents: 460.

Responses per Respondent: 1.

Hours per Response: 4.

Total Burden Hours: 1,840.

Obtaining Copies of Proposals: Requesters may obtain a copy of the information collection documents from the General Services Administration, Regulatory Secretariat Branch (MVCB), 1275 First Street, NE., Washington, DC 20417, telephone (202) 501-4755. Please cite OMB Control No. 9000-00XX, Preventing Personal Conflicts of Interest for Contractor Employees Performing Acquisition Functions, in all correspondence.

Dated: May 6, 2011.
Millisa Gary,
Acting Director, Office of Governmentwide Acquisition Policy.

[FR Doc. 2011-11609 Filed 5-11-11; 8:45 am]

BILLING CODE 6820-EP-P